FEDERAL COMMUNICATIONS COMMISSION

47 CFR Part 1

[FCC 06-94]

Practice and Procedure

AGENCY: Federal Communications Commission.

ACTION: Final rule; announcement of effective date.

SUMMARY: The Federal Communications Commission has published a number of requirements related to practice and procedure before the Commission. This document announces the approval of the Office of Management and Budget (OMB) for information collection requirements contained in the sections outlined in the DATES section.

DATES: Effective March 30, 2011, the following regulation has been approved by OMB: 47 CFR 1.47(h), published at 71 FR 38781, July 10, 2006.

FOR FURTHER INFORMATION CONTACT: Nicholas Degani, Telecommunications Access Policy Division, Wireline Competition Bureau, at (202) 418-7400.

SUPPLEMENTARY INFORMATION: On July 10, 2006, the Commission published a Report and Order at 71 FR 38781. That Report and Order amended, among other sections, § 1.47(h) of the Commission rules to require interconnected Voice over Internet Protocol (VoIP) providers to designate an agent for service of documents. On March 19, 2007, OMB approved the information collection requirements contained in § 1.47(h) of title 47 of the United States Code of Federal Regulations as a revision to OMB Control Number 3060-0855.

Federal Communications Commission.
Marlene H. Dortch,
Secretary.

[FR Doc. 2011-7383 Filed 3-29-11; 8:45 am]

BILLING CODE 6712-01-P